DEPARTMENT OF THE TREASURY

Office of the Comptroller of the Currency

[Docket ID: OCC-2015-0001

Minority Depository Institutions Advisory Committee

AGENCY: Office of the Comptroller of the Currency, Department of the Treasury.

ACTION: Notice.

SUMMARY: The Office of the Comptroller of the Currency (OCC) announces a meeting of the Minority Depository Institutions Advisory Committee (MDIAC).

DATES: The OCC MDIAC will hold a public meeting on Wednesday, February 18, 2015, beginning at 8:30 a.m. Eastern Standard Time (EST).

ADDRESSES: The OCC will hold the February 18, 2015 meeting of the MDIAC at the Office of the Comptroller of the Currency, 400 7th Street SW., Washington, DC 20219.

FOR FURTHER INFORMATION CONTACT: Beverly Cole, Designated Federal Officer and Senior Advisor to the Senior Deputy Comptroller for Midsize and Community Bank Supervision, (202) 649-5420, Office of the Comptroller of the Currency, Washington DC, 20219.

SUPPLEMENTARY INFORMATION: By this notice, the OCC is announcing that the MDIAC will convene a meeting at 8:30 a.m. EST on Wednesday, February 18, 2015, at the Office of the Comptroller of the Currency, 400 7th Street SW., Washington DC, 20219. Agenda items will include current topics of interest to the industry. The purpose of the meeting is for the MDIAC to advise the OCC on steps the agency may be able to take to ensure the continued health and viability of minority depository institutions and other issues of concern to minority depository institutions. Members of the public may submit written statements to the MDIAC by any one of the following methods:

• Email to: MDIAC@OCC.treas.gov.

• Mail to: Beverly Cole, Designated Federal Officer, Office of the Comptroller of the Currency, 400 7th Street SW., Washington DC, 20219.

The OCC must receive written statements no later than Wednesday, February 11, 2015. Members of the public who plan to attend the meeting should contact the OCC by 5:00 p.m. EST on Thursday, February 12, 2015 to inform the OCC of their desire to attend the meeting and to provide information that will be required to facilitate entry into the meeting. Members of the public may contact the OCC via email at MDIAC@OCC.treas.gov or by telephone at (202) 649-5402. Attendees should provide their full name, email address, and organization, if any. For security reasons, members of the public will be subject to security screening procedures and must present a valid government issued form of identification to enter the building. Members of the public who are deaf or hard of hearing should call (202) 649-5597 (TTY) at least five days before the meeting to make necessary arrangements. The OCC will provide attendees with auxiliary aids (e.g., sign language interpretation) required for this meeting.

Dated: January 28, 2015.
Thomas J. Curry,
Comptroller of the Currency.

[FR Doc. 2015-02005 Filed 2-2-15; 8:45 am]

BILLING CODE 4810-33-P